DEPARTMENT OF THE INTERIOR

National Park Service

[NPS-WASO-NAGPRA-NPS0035862; PPWOCRADN0-PCU00RP14.R50000]

Notice of Inventory Completion: Michigan State University, East Lansing, MI

AGENCY: National Park Service, Interior.

ACTION: Notice.

SUMMARY: In accordance with the Native American Graves Protection and Repatriation Act (NAGPRA), Michigan State University has completed an inventory of human remains and associated funerary objects and has determined that there is a cultural affiliation between the human remains and associated funerary objects and Indian Tribes or Native Hawaiian organizations in this notice. The human remains and associated funerary objects were removed from Emmet County, MI.

DATES: Repatriation of the human remains and associated funerary objects in this notice may occur on or after June 20, 2023.

ADDRESSES: Judith Stoddart, Michigan State University, 287 Delta Court, East Lansing, MI 48824, telephone (517) 432-2524, email stoddart@msu.edu.

SUPPLEMENTARY INFORMATION: This notice is published as part of the National Park Service's administrative responsibilities under NAGPRA. The determinations in this notice are the sole responsibility of Michigan State University. The National Park Service is not responsible for the determinations in this notice. Additional information on the determinations in this notice, including the results of consultation, can be found in the inventory or related records held by Michigan State University.

Description

Human remains representing, at minimum, one individual were removed from Emmet County, MI. This individual arrived at Michigan State University as a police case in 1969 (Forensic Anthropology Lab (FAL) case number F.2.69), after a metal detectorist located the remains of a coffin burial along Five Mile Creek. The police removed human remains belonging to this individual, along with the associated funerary objects. After ancestry was determined to be Native American, the human remains and associated funerary objects were donated to Michigan State University (with a final donation date of 1971). In May of 1972, additional remains belonging to this individual were recovered by the Michigan State Police and donated to MSU. The burial is believed to have been an extended burial, with the head pointing towards the west. Given the nails and wood, this coffin burial most likely dates between 1760 and 1820. After the analysis was complete, the human remains of this individual were stored with other forensic cases and the associated paperwork was filed (there were no computer database records of the analysis or final determination). This individual was mistaken for a cold case until 2022, when a reanalysis of several cold cases at the FAL prompted a re-investigation of this individual as well, at which time it was learned that the human remains had been previously identified as belonging to a Native American.

The 572 associated funerary objects are 40 silver brooch fragments, three brooch pins, 16 conical silver bobs, 28 silver balls, five silver loop fragments, two complete bangles, two tiered-and-faceted silver bobs, one complete teardrop bangle tied with fabric, 29 pieces of scrap metal, eight nail fragments with associated wood, eight scraps of loose fabric, 21 decorated silver band fragments (representing four distinct armbands), one amber bottle glass fragment, one burned glass fragment, one animal bone, one animal claw, one small bit of hair, three unidentified organic materials, two unidentified iron fragments, 25 pieces of scrap silver, six indigenous ceramic sherds, one piece of charcoal, one lot consisting of fly casings, one piece of fabric, 29 seed beads, and 336 assorted glass beads (brown doublet, tan doublet, faceted, dark green, brown, blue, white, amber).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, and historical.

Determinations

Pursuant to NAGPRA and its implementing regulations, and after consultation with the appropriate Indian Tribes and Native Hawaiian organizations, Michigan State University has determined that:

• The human remains described in this notice represent the physical remains of one individual of Native American ancestry.

• The 572 objects described in this notice are reasonably believed to have been placed with or near individual human remains at the time of death or later as part of the death rite or ceremony.

• There is a relationship of shared group identity that can be reasonably traced between the human remains and associated funerary objects described in this notice and the Grand Traverse Band of Ottawa and Chippewa Indians, Michigan; Little River Band of Ottawa Indians, Michigan; Little Traverse Bay Bands of Odawa Indians, Michigan; and the Ottawa Tribe of Oklahoma.

Requests for Repatriation

Written requests for repatriation of the human remains and associated funerary objects in this notice must be sent to the Responsible Official identified in ADDRESSES. Requests for repatriation may be submitted by:

1. Any one or more of the Indian Tribes or Native Hawaiian organizations identified in this notice and, if joined to a request from one or more of the Indian Tribes, any one or more of the following non-federally recognized Indian groups: the Burt Lake Band of Ottawa and Chippewa Indians and the Grand River Band of Ottawa Indians.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 20, 2023. If competing requests for repatriation are received, Michigan State University must determine the most appropriate requestor prior to repatriation. Requests for joint repatriation of the human remains and associated funerary objects are considered a single request and not competing requests. Michigan State University is responsible for sending a copy of this notice to the Indian Tribes identified in this notice.

Authority: Native American Graves Protection and Repatriation Act, 25 U.S.C. 3003, and the implementing regulations, 43 CFR 10.9, 10.10, and 10.14.

Dated: May 10, 2023.
Melanie O'Brien,
Manager, National NAGPRA Program.

[FR Doc. 2023-10557 Filed 5-17-23; 8:45 am]

BILLING CODE 4312-52-P